DEPARTMENT OF JUSTICE

Federal Bureau of Investigation

[Docket No. FBI-160]

FBI Information Management Division, Enterprise Vetting Center User Fee Schedule

AGENCY: Federal Bureau of Investigation (FBI), Department of Justice.

ACTION: Notice.

SUMMARY: This notice establishes a revised user fee for federal agencies requesting name-based, non-criminal justice background checks of the FBI's Central Records System through the Enterprise Vetting Center (EVC), formally known as the National Name Check Program (NNCP). The total resource costs associated with providing name check services have been calculated to ensure full reimbursement to the FBI (“cost reimbursement portion” of the fee). The FBI is also authorized to charge an additional amount to defray costs required to update and improve the EVC's technological infrastructure, which supports the automation of processes involving name-based background checks (“automation portion” of the fee). This notice explains the methodology used to calculate revised fees and also provides the updated fee schedule. In addition, and in conjunction with the revised fee for the name-based checks, this notice also establishes an interim monthly fee for Continuous Vetting (CV) checks.

DATES: This fee schedule is effective July 1st, 2023.

FOR FURTHER INFORMATION CONTACT: Mr. Karl R. Schumann, Section Chief, Enterprise Vetting Center, Information Management Division, FBI, 200 Constitution Drive, Winchester, Virginia 22602.

SUPPLEMENTARY INFORMATION: On June 7, 2010, the FBI published the Final Rule (75 FR 24796) setting forth the FBI Director's authority to establish and collect fees for providing name-based background checks conducted by the EVC of the Information Management Division (IMD), formally known as the NNCP. The Final Rule explains the methodology used to calculate the fees and provides that future fee adjustments will be made by a notice published in the Federal Register. Pursuant to the authority in Public Law (Pub. L.) 101-515 and in accordance with the requirements of 28 CFR 20.31(e), the FBI is required to periodically review the amount it collects for the EVC to determine the current cost of processing name checks for non-criminal justice purposes.

The FBI is also authorized by the Final Rule to use the same methodology in determining the cost and developing fees for new services that perform name checks for non-criminal justice purposes. IMD consistently applied the same methodology to establish an interim monthly fee for CV, which is a personnel security investigative process that continuously monitors FBI record holdings for information pertaining to individuals for which a name-based check was completed. The FBI's federal partners, upon enrolling their personnel in the service, will receive relevant updates in a more rapid manner as they incur a monthly charge for each enrolled employee.

Name-Based Fee

An independent user fee study was conducted in accordance with 28 CFR 20.31(e)(2) to determine if the current user fees published in the Federal Register on December 30th, 2019 (84 FR 71978) required adjustments due to either increases or decreases in costs since the user fees became effective on February 1st, 2020. The user fee analysis performed in 2022 determined that the cost-reimbursement portion of name-based checks increased by $2.25 while the automation portion remained consistent with the current name check user fees. The following table details the revised fee amounts for authorized users requesting name-based checks for noncriminal purposes, including the difference from the fee schedule currently in effect:

Name-Based Checks
Service | Current fee | Change in fee amount | Revised fee
Name-Based Checks | $19.25 | $2.25 | $21.50
Automation | 2.00 | 0.00 | 2.00
Total Fee | 21.25 | 2.25 | 23.50

This revised fee, of $23.50 per check, will become effective on July 1st, 2023.

Continuous Vetting (CV) Interim Fee

A secondary independent user fee study was conducted in keeping with 28 CFR 20.31(e)(2) and utilized the best available information to determine the costs associated with providing CV services on a monthly basis for enrolled personnel. A CV pilot was performed in Fiscal Year 2022 with an FBI federal partner to create an initial assessment for the costs required to provide monitoring support. Through this pilot assessment, IMD determined that the monthly cost-reimbursement rate was $0.25 per enrolled individual. The following table details the new fee amount for authorized users requesting CV checks for noncriminal purposes:

CV Checks
[Monthly subscription amount]
Service | New fee
CV Checks | $0.25
Automation | 0.00
Total Fee | 0.25

This new fee, of $0.25 per month/per submission, will become effective on July 1st, 2023.

Christopher A. Wray,
Director, Federal Bureau of Investigation.

[FR Doc. 2023-10902 Filed 5-22-23; 8:45 am]

BILLING CODE 4410-02-P